FEDERAL RESERVE SYSTEM

Change in Bank Control Notices; Formations of, Acquisitions by, and Mergers of Bank Holding Companies; Correction

This notice corrects a notice (FR Doc. 2014-22822) published on pages 57553 and 57554 of the issue for Thursday, September 25, 2014.

Under the Federal Reserve Bank of Kansas City heading, the entry for Robert Craig Duncan and Diana H. Duncan Revocable Trust, R. Craig Duncan and Diana H. Duncan as trustees, all of Winfield, Kansas; Robert E. Duncan Revocable Trust, R. Craig Duncan, as trustee, both of Winfield, Kansas; Jane Gary Duncan Revocable Trust, Jane Gary Duncan, as Trustee, both of Winfield, Kansas; George Duncan and Adrianna Duncan, both of Santa Fe, New Mexico; Spencer Duncan and Tessa Duncan, both of Wichita, Kansas; and Taylor Duncan and Tara Duncan, both of Winfield, Kansas, all as members of the R. Craig Duncan Family Group, is revised to read as follows:

A. Federal Reserve Bank of Kansas City (Dennis Denney, Assistant Vice President) 1 Memorial Drive, Kansas City, Missouri 64198-0001:

1. Robert Craig Duncan and Diana H. Duncan Revocable Trust, R. Craig Duncan and Diana H. Duncan as trustees, all of Winfield, Kansas; Robert E. Duncan Revocable Trust, R. Craig Duncan, as trustee, both of Winfield, Kansas; the Dana James Revocable Trust, Dana James Duncan, as trustee, both of Dallas, Texas; Jane Gary Duncan Revocable Trust, Jane Gary Duncan, as Trustee, both of Winfield, Kansas; George Duncan and Adrianna Duncan, both of Santa Fe, New Mexico; Spencer Duncan and Tessa Duncan, both of Wichita, Kansas; and Taylor Duncan and Tara Duncan, both of Winfield, Kansas, all as members of the R. Craig Duncan Family Group; to retain voting shares of Cornerstone Alliance, Ltd, and thereby indirectly retain voting shares of CornerBank, both in Winfield, Kansas.

Comments on this application must be received by October 10, 2014.

Board of Governors of the Federal Reserve System, September 26, 2014.
Michael J. Lewandowski,
Associate Secretary of the Board.

[FR Doc. 2014-23325 Filed 9-30-14; 8:45 am]

BILLING CODE 6210-01-P